DEPARTMENT OF THE TREASURY

Submission for OMB Review; Comment Request

June 9, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before July 17, 2000 to be assured of consideration.

Internal Revenue Service (IRS)

OMB Number: 1545-1277.

Form Number: IRS Form 1040-TeleFile.

Type of Review: Extension.

Title: TeleFile.

Description: Form 1040-EZ filers whose IRS mail label has not changed, will be given the option to file their return by telephone, with no return to send in to the IRS. The IRS will use the information to compute the taxpayer's refund or balance due.

Respondents: Individuals or households.

Estimated Number of Respondents/Recordkeepers: 5,100,000.

Estimated Burden Hours Per Respondent/Recordkeeper
Recordkeeping | 7 min.
Learning about the law or the Tax Record | 40 min.
Preparing the Tax Record | 25 min.
TeleFile phone call | 10 min.
Preparing Form 8855-V (TeleFile Pay Voucher) if you owe money and are paying by check or money order | 20 min.

Frequency of Response: Annually.

Estimated Total Reporting/Recordkeeping Burden: 7,887,000 hours.

OMB Number: 1545-1432.

Form Number: None.

Type of Review: Revision.

Title: Voluntary Customer Surveys to Implement E.O. 12862 Coordinated by the Office of Program Evaluation and Risk Analysis on Behalf of All IRS Operations Functions.

Description: This is a generic clearance for an undefined number of customer satisfaction and opinion surveys and focus group interviews to be conducted over the next three years. Surveys and focus groups conducted under the generic clearance are used by the Internal Revenue Service to determine levels of customer satisfaction, as well as determining issues that contribute to customer burden. This information will be used to make quality improvements to products and services.

Respondents: Individuals or households, Business or other for-profit, Not-for-profit institutions, Farms, Federal Government, State, Local or Tribal Government.

Estimated Number of Respondents: 1,116,667.

Estimated Burden Hours Per Respondent: 15 minutes.

Frequency of Response: Other (varies).

Estimated Total Reporting Burden: 291,667 hours.

Clearance Officer: Garrick Shear, Internal Revenue Service, Room 5244, 1111 Constitution Avenue, NW, Washington, DC 20224.

OMB Reviewer: Alexander T. Hunt (202) 395-7860, Office of Management and Budget, Room 10202, New Executive Office Building, Washington, DC 20503.

Lois K. Holland,
Departmental Reports Management Officer.

[FR Doc. 00-15241 Filed 6-15-00; 8:45 am]

BILLING CODE 4830-01-P